DEPARTMENT OF STATE

[Public Notice: 10234]

Notice of Public Meeting

The Department of State will conduct an open meeting at 9:00 a.m. on Wednesday, January 10, 2018, in room 6K15-15 of the Douglas A. Munro Coast Guard Headquarters Building at St. Elizabeth's, 2703 Martin Luther King Jr. Avenue SE, Washington, DC, 20593. The primary purpose of the meeting is to prepare for the Fifth session of the International Maritime Organization's (IMO) Sub-Committee on Ship Design and Construction to be held at the IMO headquarters, London, United Kingdom, January 22-26, 2018.

The agenda items to be considered include:

—Adoption of the agenda

—Decisions of other bodies

—Amendments to SOLAS regulations II-1/8-1 on the availability of passenger ships' electrical power supply in cases of flooding from side raking damage (5.2.1.13)

—Computerized stability support for the master in case of flooding for existing passenger ships (5.2.1.7)

—Review SOLAS chapter II-1, parts B-2 to B-4, to ensure consistency with parts B and B-1 with regard to watertight integrity

—Finalization of second generation intact stability criteria (5.2.1.12)

—Mandatory instrument and/or provisions addressing safety standards for the carriage of more than 12 industrial personnel on board vessels engaged on international voyages (5.2.1.4)

—Amendments to the 2011 ESP Code (2.0.1.1)

—Unified interpretation to provisions of IMO safety, security, and environment-related Conventions (1.1.2.3)

—Revised SOLAS regulation II-1/3-8 and associated guidelines (MSC.1/Circ.1175) and new guidelines for safe mooring operations for all ships (5.2.1.1)

—Guidelines for wing-in-ground craft (5.2.1.23)

—Biennial status report and provisional agenda for SDC 6

—Election of Chairman and Vice-Chairman for 2019

—Any other business

—Report to the Maritime Safety Committee

Members of the public may attend this meeting up to the seating capacity of the room. Upon request to the meeting coordinator, members of the public may also participate via teleconference. To facilitate the building security process, and to request reasonable accommodation, those who plan to attend should contact the meeting coordinator, LT Jonathan Duffett, by email at Jonathan.B.Duffett@uscg.mil, or by phone at (202) 372-1022, or in writing at 2703 Martin Luther King Jr. Ave. SE., Stop 7509, Washington DC 20593-7509 not later than January 3, 2018, seven days prior to the meeting. Requests made after January 3, 2018 might not be able to be accommodated. Please note that due to security considerations, two valid, government issued photo identifications must be presented to gain entrance to the Coast Guard Headquarters building. The building is accessible by taxi, public transportation, and privately owned conveyance (upon request). In the case of inclement weather where the U.S. Government is closed or delayed, a public meeting may be conducted virtually by calling (202) 475-4000 or 1-855-475-2447, Participant code: 887 809 72#. The meeting coordinator will confirm whether the virtual public meeting will be utilized. Members of the public can find out whether the U.S. Government is delayed or closed by visiting www.opm.gov/status/. Additional information regarding this and other IMO public meetings may be found at: www.uscg.mil/imo.

Joel C. Coito,
Coast Guard Liaison Officer, Office of Ocean and Polar Affairs, Department of State.

[FR Doc. 2017-27253 Filed 12-18-17; 8:45 am]

BILLING CODE 4710-09-P